SECURITIES AND EXCHANGE COMMISSION

Submission for OMB Review; Comment Request

Upon written request, copies available from: Securities and Exchange Commission, Office of Filings and Information Services, Washington, DC 20549.

Extension:

Form 3, OMB Control No. 3235-0104, SEC File No. 270-125.

Form 4, OMB Control No. 3235-0287, SEC File No. 270-126.

Form 5, OMB Control No. 3235-0362, SEC File No. 270-323.

Notice is hereby given that pursuant to the Paperwork Reduction Act of 1995 (44 U.S.C. 3501 et seq.) the Securities and Exchange Commission (“Commission”) has submitted to the Office of Management and Budget requests for extension of the previously approved collections of information discussed below.

Exchange Act Forms 3, 4, and 5 are filed by insiders of public companies that have a class of securities registered under Section 12 of the Exchange Act. Form 3 is an initial statement of beneficial ownership of securities, Form 4 is a statement of changes in beneficial ownership of securities and Form 5 is an annual statement of beneficial ownership of securities. Approximately 29,000 insiders file Form 3 annually and it takes approximately .50 hours to prepare for a total of 14,500 annual burden hours. Approximately 225,000 insiders file Form 4 annually and it takes approximately .50 hours to prepare for a total of 112,500 annual burden hours. Approximately 12,000 insiders file Form 5 annually and it takes approximately one hour to prepare for a total of 12,000 annual burden hours. Form 3, Form 4, and Form 5 information collections are mandatory and available to the public.

An agency may not conduct or sponsor, and a person is not required to respond to, a collection of information unless it displays a currently valid control number.

Written comments regarding the above information should be directed to the following persons: (i) Desk Officer for the Securities and Exchange Commission: drostker@omb.eop.gov, and (ii) R. Corey Booth, Director/Chief Information, Office of Information Technology, Securities and Exchange Commission, 450 Fifth Street, NW., Washington, DC 20549. Comments must be submitted to OMB within 30 days of this notice.

Dated: November 5, 2004.
Margaret H. McFarland,
Deputy Secretary.

[FR Doc. 04-25383 Filed 11-15-04; 8:45 am]

BILLING CODE 8010-01-P